DEPARTMENT OF TRANSPORTATION

Federal Highway Administration

Rescinding the Notice of Intent for an Environmental Impact Statement: Prince George's County, MD

AGENCY: Federal Highway Administration.

ACTION: Notice.

SUMMARY: This notice rescinds the Notice of Intent for preparing an Environmental Impact Statement that was issued on June 11, 2008, for a proposed roadway improvement project in Prince George's County, Maryland.

FOR FURTHER INFORMATION CONTACT: Ms. Jeanette Mar, Environmental Program Manager, FHWA, DelMar Division, 10 S. Howard Street, Suite 2450, Baltimore, MD 21201, Telephone: (410) 779-7152, e-mail address Jeanette.Mar@dot.gov.

SUPPLEMENTARY INFORMATION: The FHWA, in cooperation with the Maryland State Highway Administration (SHA), U.S. Army Corps of Engineers, U.S. Environmental Protection Agency, Maryland Department of the Environment, and University of Maryland, is rescinding the NOI to prepare an EIS for roadway improvements which would address mobility and safety for travelers to and from the University of Maryland (UM) Campus from I-95/I-495 and points north, while providing enhanced access to the university. The NOI is being rescinded because the project is no longer funded for study.

(Catalog of Federal Domestic Assistance Program Number 20.205, Highway Research, Planning and Construction. The regulation implementing Executive Order 12372 regarding intergovernmental consultation of Federal programs and activities apply to this program.)

Issued on: May 27, 2010.
Jeanette Mar,
Environmental Program Manager.

[FR Doc. 2010-13295 Filed 6-2-10; 8:45 am]

BILLING CODE 4910-22-P